ENVIRONMENTAL PROTECTION AGENCY

[FRL-7142-4]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at EPA (202) 260-4901, or email at auby.susan@mail.epa.gov and please refer to the appropriate EPA Information Collection Request (ICR) Number.

SUPPLEMENTARY INFORMATION:

OMB Responses to Agency Clearance Requests

OMB Approvals

EPA ICR No. 1663.03; Information Collection Request Update for the Compliance Assurance Monitoring Program; in 40 CFR part 64; was approved 11/27/2001; OMB No. 2060-0376; expires 11/30/2004.

EPA ICR No. 1487.07 Cooperative Agreements and Superfund State Contracts for Superfund Response Action; in 40 CFR part 35, subpart 0; was approved 11/26/2001; OMB No. 2050-0179; expires 11/30/2004.

EPA ICR No. 1730.03; Standards of Performance for New Stationary Sources: Hospital/Medical/Infectious Waste Incinerators; in 40 CFR part 60, subpart Ec; was approved 11/23/2001; OMB No. 2060-0363; expires 11/30/2004.

EPA ICR No. 1051.08; New Source Performance Standards for Portland Cement Plants; in 40 CFR part 60, subpart F; was approved 11/23/2001; OMB No. 2060-0025; expires 11/30/2004.

EPA ICR No. 1062.07; NSPS for Coal Preparation Plants; in 40 CFR part 60, subpart Y; was approved 11/23/2001; OMB No. 2060-0122; expires 11/30/2002.

EPA ICR No. 0661.06; NSPS for Asphalt Processing and Asphalt Roofing Manufacture, Reporting and Recordkeeping Requirements; in 40 CFR part 60, subpart UU; was approved 11/23/2001; OMB No. 2060-0002; expires 11/30/2004.

EPA ICR. No. 1011.05; Partial updating of TSCA Inventory Data Base, Production 40 CFR part 710; was approved 11/26/2001; OMB No. 2070-0070; expires 11/30/2004.

EPA ICR No. 0596.07; Application and Summary Report for Emergency Exemption for Pesticides; in 40 CFR part 166; was approved 11/26/2001; OMB No. 2070-0032; expires 11/30/2004.

EPA ICR No. 1189.09; Identification Listing and Rulemaking Petitions; in 40 CFR parts 260, 261; was approved 11/19/2001; OMB No. 2050-0053; expires 11/30/2004.

EPA ICR No. 1597.04; Reporting and Recording Requirements for the Universal Waste Handlers and Destination Facilities, in 40 CFR part 273; was approved 11/19/2001; OMB No. 2050-0145; expires 11/30/2004.

EPA ICR No. 1445.05; Continuous Release Reporting Regulations (CRR) under the Comprehensive Environmental Response, Compensation, and Liability Act of 1980 (CERCLA), was approved 11/19/2001; OMB No. 2050-0086; expires 11/30/2004.

EPA ICR No. 1823.02; PFC Emission Reduction Partnership for the Semiconductor Industry, Non rule Related, Memo of Understanding; was approved 11/19/2001; OMB No. 2060-0382; expires 11/30/2004.

EPA ICR No. 0186.09; NESHAP for Vinyl Chloride; in 40 CFR part 61, subpart F; was approved 11/19/2001; OMB No. 2060-0071; expires 11/30/2004.

EPA ICR No. 1702.03; Retrofit/Rebuild Requirements for 1993 and Earlier Model Year Urban Buses; in 40 CFR part 85; was approved 11/19/2001; OMB No. 2060-0302; expires 11/30/2004.

EPA ICR No. 1657.04; NESHAP for Total HAP Emissions from the Pulp Paper Production Source Category—Process Operations; in 40 CFR part 63, subpart S; was approved 11/19/2001; OMB No. 2060-0387; expires 11/30/2004.

EPA ICR No. 1973.02; Cooling Water Intake Structures New Facility Final Rule; in 40 CFR parts 122.2 and 122.9 (b), (1), (2), (4), and 40 CFR part 125.83; was approved 11/08/2001; OMB No. 2040-0241; expires 11/30/2004.

EPA ICR No. 1125.03; National Emission Standards for Hazardous Air Pollutants for Beryllium Rocket Motor Firing; in 40 CFR part 61, subpart D; was approved 11/08/2001; OMB No. 2060-0394; expires 11/30/2004.

EPA ICR No. 1686.04; NESHAP for the Secondary Lead Smelter Industry; in 40 CFR part 63, subpart X; was approved 11/08/2001; OMB No. 2060-0296; expires 10/31/2004.

EPA ICR No. 1153.07; NESHAP for Equipment Leaks (Fugitive Emission Sources); in 40 CFR part 61, subpart V; was approved 11/08/2001; OMB No. 2060-0068; expires 10/31/2003.

EPA ICR No. 1904.01; Sun Wise School Program; was approved 11/02/2001; OMB No. 2060-0439; expires 11/30/2003.

EPA ICR No. 1896.01; Disinfectant/Disinfection Byproducts, Chemical, and Radionuclides Rules; in 40 CFR part 141 subpart B; was approved 11/29/2001; OMB No. 2040-0204; expires 11/30/2004.

EPA ICR No. 1230.10; Prevention of Significant Deterioration and Nonattainment Area; in 40 CFR part 51 and 52; was approved 10/29/2001; OMB No. 2060-0303; expires 10/31/2004.

EPA ICR No. 1639.04; National Pollutant Discharge Elimination System Great Lakes Water Quality Guidance; in 40 CFR part 136; was approved 11/27/2001; OMB Number 2040-0180; expires 11/30/2004.

EPA ICR No. 1895.02; Microbial Rules; in 40 CFR part 141 subpart B, and part 142 was approved 11/28/2001; OMB No. 2040-0205; expires 11/30/2004.

EPA ICR No. 2038.01; 2000 Aquatic Animal Production Industry Surveys; in 40 CFR part 451; was approved 11/28/2001; OMB No. 2040-0240; expires 11/30/2004.

EPA ICR No. 0270.40; Public Water System Supervision Program; in 40 CFR parts 141 & 142; was approved 11/28/2001; OMB No. 2040-0090; expires 11/30/2004.

EPA ICR No. 1994.02; Baseline Standards and Best Management Practices for the Coal Mining Point Source Category—Coal Mining Subcategory and Western Alkaline; in 40 CFR Part 434; was approved 11/30/2001; OMB No. 2040-0239; expires 11/30/2004.

EPA ICR No. 1488.05; Superfund Site Evaluation and Hazard Ranking System; was approved 11/26/01; OMB No. 2050-0095; expires 11/30/2004.

EPA ICR No. 1391.06; CWA State Revolving Fund Program; was approved 11/28/2001; OMB No. 2040-0118; expires 11/30/2004.

OMB Withdrawals

EPA ICR No. 1861.02; Energy Star Labeling Program Evaluation; on 10/29/2001 was withdrawn from OMB review.

EPA ICR No. 1503.04; Data Acquisition for Registration; on 11/06/2001 was withdrawn from OMB review.

EPA ICR No. 2031.01; Request for Applications for Critical Use Exemptions from the Phaseout of Methyl Bromide; on 11/26/2001 was withdrawn from OMB review.

EPA ICR No. 0619.09; Modification to Mobile Source Emission Factor Survey; on 11/05/2001 was withdrawn from OMB review.

EPA ICR No. 1965.01; Soil Ingestion Research; on 11/02/2001 was withdrawn from OMB review.

Correction to Previously Published Notice

Vol. 66, No. 241/Friday, December 14, 2001, page 64817

40 CFR number incorrectly reported (40 CFR part 61). Should read as follows:

EPA ICR No. 1446.07; PCB's Consolidated Reporting and Recordkeeping Requirements; in 40 CFR part 761; was approved on 08/29/2001; OMB No. 2070-0112; expires 08/31/2004.

Dated: January 31, 2002.
Oscar Morales,
Director, Collection Strategies Division.

[FR Doc. 02-3360 Filed 2-11-02; 8:45 am]

BILLING CODE 6560-50-M